DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Friday, October 24, 2003, at the WSU Conference Room, located in the basement of the Lewis County Courthouse, 351 NW. North Street, Chelhalis, Washington 98532. The meeting will begin at 9 a.m. and continue until 12 noon. The purpose of the meeting is to review proposals for Title II funding of Forest projects under the Secure Rural Schools and County Self-Determination Act of 2000.

All North Gifford Pinchot National Forest Resource Advisory Committee meetings are open to the public. Interested citizens are encouraged to attend. The “open forum” provides opportunity for the public to bring issues, concerns, and discussion topics to the Advisory Committee. The “open forum” is scheduled to occur at 9:15 a.m. Interested speakers will need to register prior to the open forum period. The committee welcomes the public's written comments on committee business any time.

FOR FURTHER INFORMATION CONTACT: Direct questions regarding this meeting to Roger Peterson, Public Affairs Specialist, at (360) 891-5007, or write Forest Headquarters Office, Gifford Pinchot National Forest, 10600 NE. 51st Circle, Vancouver, WA 98682.

Dated: September 30, 2003.
Earl W. Ford,
Acting Forest Supervisor.

[FR Doc. 03-25326 Filed 10-6-03; 8:45 am]

BILLING CODE 3410-11-M